DEPARTMENT OF COMMERCE

International Trade Administration

[A-570-970]

Multilayered Wood Flooring From the People's Republic of China; Final Results of Antidumping Duty New Shipper Review; 2014-2015

AGENCY: Enforcement and Compliance, International Trade Administration, Department of Commerce.

SUMMARY: The Department of Commerce (Commerce) has conducted a new shipper review (NSR) of the antidumping duty order on multilayered wood flooring (MLWF) from the People's Republic of China (China). We have determined that Huzhou Muyun Wood Co., Ltd., (Muyun) has failed to demonstrate its qualification for a separate rate and is, therefore, subject to the China-wide entity rate, which is not under review in this period. The period of review (POR) is December 1, 2014, through May 31, 2015.

DATES: Applicable May 14, 2019.

FOR FURTHER INFORMATION CONTACT: Aleksandras Nakutis, AD/CVD Operations, Office IV, Enforcement & Compliance, International Trade Administration, U.S. Department of Commerce, 1401 Constitution Avenue NW, Washington, DC 20230; telephone: (202) 482-3147.

SUPPLEMENTARY INFORMATION:

Background

On July 29, 2015, Commerce initiated this NSR for Muyun in order to determine whether imports into the United States of multilayered wood flooring from China are being sold below normal value.¹ On October 26, 2016, Commerce published the final rescission of Muyun's NSR, due to the determination that Muyun's sale was non-bona fide.² On December 11, 2017, the Court of International Trade (CIT) remanded Commerce's determination, holding that the conclusion that Muyun's sale was non-bona fide was not supported by substantial evidence.³ On March 6, 2018, Commerce released its final results of redetermination pursuant to court order, continuing to find that Muyun's sale was non-bona fide.⁴ On July 16, 2018, the CIT issued a final judgement that Commerce's ultimate conclusion was not supported by substantial evidence, that the rescission of the NSR could not be upheld, and instructed Commerce to proceed with Muyun's NSR.⁵ On August 16, 2018 Commerce published its notification to the public that the final judgement in this case is not in harmony with the final rescission.⁶

¹ See Multilayered Wood Flooring from the People's Republic of China: Preliminary Rescission of 2014-2015 Antidumping Duty New Shipper Reviews; 2014-2015 80 FR 45192 (July 29, 2015).

² See Multilayered Wood Flooring from the People's Republic of China: Rescission of Antidumping Duty New Shipper Reviews; 2014-2015, 81 FR 74393 (October 26, 2016).

³ See Huzhou Muyun Wood Co., Ltd. v. United States, Court No. 16-00245, Slip Op. 17-162 (December 11, 2017).

⁴ See Final Results Redetermination Pursuant to Court Order in Huzhou Muyun Wood Co., Ltd v. United States, Court No. 16-00245, dated March 6, 2018.

⁵ See Huzhou Muyun Wood Co., Ltd. v. United States, Court No. 16-00245, Slip Op. 18-89 (CIT July 16, 2018).

⁶ See Multilayered Wood Flooring from the People's Republic of China: Notice of Court Decision Not in Harmony with Final Rescission of the Antidumping Duty New Shipper Review, 83 FR 40748 (August 16, 2018).

On October 19, 2018, Commerce notified interested parties that a new segment of the proceeding regarding Muyun's NSR had been created.⁷ On November 5, 2018, Commerce released its timeline for the instant proceeding, including the date of verification.⁸ Commerce published its Preliminary Results on December 21, 2018.⁹ On January 29, 2019, Commerce exercised its discretion to toll all deadlines affected by the partial federal government closure from December 22, 2018, through the resumption of operations on January 29, 2019.¹⁰ On February 25, 2019, Muyun notified Commerce it would not be participating in the scheduled verification.¹¹

⁷ See Memorandum, “New Shipper Review of the Antidumping Duty Order on Multilayered Wood Flooring from the People's Republic of China—APO Access,” dated October 19, 2018.

⁸ See Memorandum, “New Shipper Review of the Antidumping Duty Order on Multilayered Wood Flooring from the People's Republic of China- Estimated Timeline,” dated November 5, 2018.

⁹ See Multilayered Wood Flooring from the People's Republic of China; Preliminary Results of Antidumping Duty New Shipper Review; 2014-2015, 83 FR 65628 (September 21, 2018) (Preliminary Results).

¹⁰ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

¹¹ See letter from Muyun, “Multilayered Wood Flooring from the People's Republic of China- Response to Department regarding Verification,” dated February 25, 2019.

Scope of the Order

The merchandise covered by the order includes MLWF, subject to certain exceptions.¹² The subject merchandise is currently classifiable under Harmonized Tariff Schedule of the United States (HTSUS) subheadings: 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

¹² See Memorandum from Commerce, ” Issues and Decision Memorandum for the Final Determination of Huzhou Muyun Wood Co., Ltd. Antidumping Duty New Shipper Review, 2014-2015: Multilayered Wood Flooring from the People's Republic of China,” dated concurrently (IDM) for a full description of the scope of the order.

The HTSUS subheadings are provided for convenience and customs purposes only; the written description of the scope of the order is dispositive.

Analysis of Comments Received

No parties submitted comments.

Changes Since the Preliminary Results

We find that Muyun has failed to demonstrate its qualification for a separate rate.

Results of New Shipper Review

In the Preliminary Results, Commerce determined that Muyun was eligible for a separate rate, through evidence of absence of both de jure and de facto government control over export activities, and calculated a 0.00 percent weighted-average dumping margin.¹³ However, Muyun subsequently notified Commerce that it would not be participating in Commerce's scheduled verification, rendering Muyun's responses unreliable and unverifiable.¹⁴ Accordingly, for these final results of review, we have determined that Muyun has failed to demonstrate its qualification for a separate rate and, thus, is part of the China-wide entity.

¹³ See Preliminary Results, 83 FR 65628.

¹⁴ See letter from Muyun, “Multilayered Wood Flooring from the People's Republic of China- Response to Department regarding Verification,” dated February 25, 2019.

For further discussion of the issues addressed in this proceeding, see the IDM.¹⁵ The IDM is a public document and is on file electronically via Enforcement and Compliance's Antidumping and Countervailing Duty Centralized Electronic Service System (ACCESS). ACCESS is available to registered users at http://access.trade.gov and in the Central Records Unit, room B8024 of the main Department of Commerce building. In addition, a complete version of the IDM can be accessed directly on the internet at http://enforcement.trade.gov/frn/index.html. The signed and the electronic versions of the IDM are identical in content. A list of the topics addressed in the IDM is contained in the Appendix to this notice.

¹⁵ See IDM.

Assessment Rates

Pursuant to section 751(a)(2)(C) of the Act, and 19 CFR 351.212(b), Commerce has determined, and U.S. Customs and Border Protection (CBP) shall assess, antidumping duties on all appropriate entries of subject merchandise in accordance with the final results of this review. Commerce intends to issue assessment instructions to CBP 15 days after the publication date of the final results of this review. We intend to instruct CBP to liquidate POR entries of subject merchandise exported by Muyun at the China-wide entity rate, which is 25.62 percent.

Cash Deposit Requirements

The following cash deposit requirement will be effective upon publication of the final results of this new shipper review for shipments of the subject merchandise from China entered, or withdrawn from warehouse, for consumption on or after the publication date, as provided by section 751(a)(2)(C) of the Act: As Muyun has not been found to be entitled to a separate rate, the cash deposit rate will be that for the China-wide entity, or 25.62 percent. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding APO

This notice also serves as a reminder to the parties subject to administrative protective order (APO) of their responsibility concerning the disposition of business proprietary information (BPI) disclosed under APO in accordance with 19 CFR 351.305(a)(3), which continues to govern BPI in this segment of the proceeding. Timely notification of return or destruction of APO materials or conversion to judicial protective order is hereby requested. Failure to comply with the regulations and terms of an APO is a sanctionable violation.

We are issuing and publishing these results in accordance with sections 751(a)(2)(B) and 777(i)(1) of the Act and 19 CFR 351.214.

Dated: May 7, 2019.
Christian Marsh,
Deputy Assistant Secretary for Enforcement and Compliance.

Appendix

List of Topics Discussed in the Issues and Decision Memorandum

I. Summary

II. Background

III. Scope of the Order

IV. Discussion of the Methodology

V. Recommendation

[FR Doc. 2019-09900 Filed 5-13-19; 8:45 am]

BILLING CODE 3510-DS-P